MEDICARE PAYMENT ADVISORY COMMISSION

Commission Meeting

AGENCY: Medicare Payment Advisory Commission.

ACTION: Notice of meeting.

SUMMARY: The Commission will hold its next public meeting on Thursday, April 25, 2002, and Friday, April 26, 2002, at the Ronald Reagan Building, International Trade Center, 1300 Pennsylvania Avenue, NW, Washington, DC. The meeting is tentatively scheduled to begin at 10 a.m. on April 25, and 9 a.m. on April 26.

Topics for discussion include: Coverage of nonphysician practitioners, payment for non-physician practitioners; beneficiaries' access to Medicare hospice care; assessing the Medicare benefit package: Successes, challenges and options for change; proposed prospective payment system for long-term care hospitals; quality in traditional Medicare; risk-adjustment in Medicare+Choice; and state-level variations in Medicare spending: preliminary observations. Agendas will be mailed on April 16, 2002. The final agenda will be available on the Commission's Web site (www.MedPAC.gov.)

ADDRESSES: MedPAC's address is: 1730 K Street, NW., Suite 800, Washington, DC 20006. The telephone number is (202) 653-7220.

FOR FURTHER INFORMATION CONTACT: Diane Ellison, Office Manager, (202) 653-7220.

Murray N. Ross,
Executive Director.

[FR Doc. 02-9176 Filed 4-15-02; 8:45 am]

BILLING CODE 6820-BW-M